ENVIRONMENTAL PROTECTION AGENCY

[EPA-R08-OW-2015-0415; FRL-9932-13-Region 8]

Request for Information: Great Salt Lake Mercury Data

AGENCY: Environmental Protection Agency (EPA).

ACTION: Notice; request for information.

SUMMARY: As part of the United States Environmental Protection Agency's (EPA) review of Utah's 2012-2014 Clean Water Act section 303(d) list, we deferred action on Utah's decision not to list the Great Salt Lake as impaired. We are seeking data from the Great Salt Lake for consideration. While we are seeking all available mercury concentration data (any medium) from the Great Salt Lake we are particularly interested in obtaining mercury concentration data in avian: tissue (particularly liver tissue), blood, diet, and eggs. Ideally, we would like raw data and any available quality assurance metadata and quality criteria. Reports and publications are also desirable.

DATES: Data must be received on or before September 10, 2015.

ADDRESSES: Submit your data, identified by Docket ID No. EPA-R08-OW-2015-0415, by one of the following methods:

• http://www.regulations.gov. Follow the on-line instructions for submitting data.

• Email: bunch.william@epa.gov.

• Fax: (303) 312-7206 (please alert the individual listed in the FOR FURTHER INFORMATION CONTACT if you are faxing data).

• Mail: William Bunch, Environmental Protection Agency (EPA), Region 8, Mail Code 8EPR-EP, 1595 Wynkoop Street, Denver, Colorado 80202-1129.

• Hand Delivery: William Bunch, Environmental Protection Agency (EPA), Region 8, Mail Code 8EPR-EP, 1595 Wynkoop Street, Denver, Colorado 80202-1129. Such deliveries are only accepted Monday through Friday, 8:00 a.m. to 4:30 p.m., excluding federal holidays. Special arrangements should be made for deliveries of boxed information.

Instructions: Direct your data to Docket ID No. EPA-R08-OW-2015-0415. EPA's policy is that all data received will be included in the public docket without change and may be made available online at www.regulations.gov, including any personal information provided, unless the data includes information claimed to be Confidential Business Information (CBI) or other information whose disclosure is restricted by statute. Do not submit information that you consider to be CBI or otherwise protected through www.regulations.gov or email. The www.regulations.gov Web site is an “anonymous access” system, which means EPA will not know your identity or contact information unless you provide it along with your data. If you email data directly to EPA, without going through www.regulations.gov your email address will be automatically captured and included as part of the data that is placed in the public docket and made available on the Internet. If you submit electronic data, EPA recommends that you include your name and other contact information along with your data and with any disk or CD-ROM you submit. If EPA cannot read your data due to technical difficulties and cannot contact you for clarification, EPA may not be able to consider your data. Electronic files should avoid the use of special characters, any form of encryption, and be free of any defects or viruses. For additional information about EPA's public docket visit the EPA Docket Center homepage at http://www.epa.gov/epahome/dockets.htm. For additional instructions on submitting data, go to section I, General Information, of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Ecosystems Protection Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: William Bunch, Environmental Protection Agency (EPA), Region 8, Mail Code 8EPR-EP, 1595 Wynkoop Street, Denver, Colorado 80202-1129, (303) 312-6412, bunch.william@epa.gov.

SUPPLEMENTARY INFORMATION:

I. General Information

What should I consider as I prepare my data for EPA?

1. Submitting Confidential Business Information (CBI). Do not submit CBI to EPA through http://www.regulations.gov or email. Clearly mark the part or all of the information that you claim to be CBI. For CBI information on a disk or CD ROM that you mail to EPA, mark the outside of the disk or CD ROM as CBI and then identify electronically within the disk or CD ROM the specific information that is claimed as CBI. In addition to one complete version of the data that includes information claimed as CBI, a copy of the data that does not contain the information claimed as CBI must be submitted for inclusion in the public docket. Information so marked will not be disclosed except in accordance with procedures set forth in 40 CFR part 2.

2. Tips for preparing your data. When submitting data, remember to:

• Identify the notice by docket number and other identifying information (subject heading, Federal Register, date, and page number);

• Follow directions and organize your data;

• Describe any assumptions and provide any technical information and/or QA/QC that you used;

• Make sure to submit your data by the deadline identified

Dated: July 13, 2015.
Martin Hestmark,
Assistant Regional Administrator, Region 8.

[FR Doc. 2015-19736 Filed 8-10-15; 8:45 am]

BILLING CODE 6560-50-P